ENVIRONMENTAL PROTECTION AGENCY

40 CFR Part 52

[EPA-R09-OAR-2017-0255; FRL-9977-23—Region 9]

Air Plan Approval; Arizona; Stationary Sources; New Source Review

AGENCY: Environmental Protection Agency (EPA).

ACTION: Final rule.

SUMMARY: The Environmental Protection Agency (EPA) is taking final action to approve revisions to the Arizona Department of Environmental Quality (ADEQ) portion of the applicable Clean Air Act (CAA or Act) state implementation plan (SIP) for the State of Arizona (State). We are approving revisions that are primarily intended to correct deficiencies in ADEQ's SIP-approved rules for the issuance of New Source Review (NSR) permits for stationary sources, with a focus on the Act's preconstruction permit requirements for major sources and major modifications. This action also finalizes a conditional approval of ADEQ's NSR program with respect to the CAA requirements related to ammonia as a precursor to fine particulate matter (PM2.5) under the nonattainment NSR (NA-NSR) program requirements in CAA section 189(e). In addition, this action permanently terminates the sanctions clock associated with deficiencies being corrected by the rules being approved today, except that this action continues the deferral of sanctions under the Act related to PM2.5 precursors under section 189(e) of the Act for the NA-NSR program.

DATES: This rule is effective June 4, 2018.

ADDRESSES: The EPA has established a docket for this action under Docket ID No. EPA-R09-OAR-2017-0255. All documents in the docket are listed on the http://www.regulations.gov website. Although listed in the index, some information is not publicly available, e.g., Confidential Business Information (CBI) or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Lisa Beckham, EPA Region IX, (415) 972-381, beckham.lisa@epa.gov.

SUPPLEMENTARY INFORMATION: Throughout this document, “we,” “us” and “our” refer to the EPA.

Table of Contents

I. Proposed Actions

II. Public Comments and the EPA's Responses

III. EPA Action

IV. Incorporation by Reference

V. Statutory and Executive Order Reviews

I. Proposed Actions

On June 1, 2017 (82 FR 25213), the EPA proposed to approve the rules listed in Table 1, below, which were submitted by ADEQ on April 28, 2017 for approval into the ADEQ portion of the Arizona SIP (hereinafter referred to as the April 2017 NSR submittal). The submitted rules are from the Arizona Administrative Code, Title 18—Environmental Quality, Chapter 2—Department of Environmental Quality—Air Pollution Control, Articles 1 through 4.

Table 1—Submitted Rules Being Approved Into the Arizona SIP in This Action
Rule | Title | State effective date
R18-2-101 (except 20) | Definitions | March 21, 2017.
R18-2-201 | Particulate Matter: PM10 and PM2.5 | March 21, 2017.
R18-2-203 | Ozone | March 21, 2017.
R18-2-217 | Designation and Classification of Attainment Areas | March 21, 2017.
R18-2-218 | Limitation of Pollutants in Classified Attainment Areas | March 21, 2017.
R18-2-330 | Public Participation | March 21, 2017.
R18-2-332 | Stack Height Limitation | March 21, 2017.
R18-2-401 | Definitions | March 21, 2017.
R18-2-402 | General | March 21, 2017.
R18-2-403 | Permits for Sources Located in Nonattainment Areas | March 21, 2017.
R18-2-404 | Offset Standards | March 21, 2017.
R18-2-405 | Special Rule for Major Sources of VOC or Nitrogen Oxides in Ozone Nonattainment Areas Classified as Serious or Severe | March 21, 2017.
R18-2-406 | Permit Requirements for Sources Located in Attainment and Unclassifiable Areas | March 21, 2017.
R18-2-407 | Air Quality Impact Analysis and Monitoring Requirements | March 21, 2017.
R18-2-408 | Innovative Control Technology | March 21, 2017.
R18-2-410 | Visibility and Air Quality Related Value Protection | March 21, 2017.
R18-2-411 | Permit Requirements for Sources that Locate in Attainment or Unclassifiable Areas and Cause or Contribute to a Violation of Any National Ambient Air Quality Standard | March 21, 2017.
R18-2-412 | PALs | March 21, 2017.

As discussed in our June 1, 2017 proposed action, these rule revisions are intended to correct deficiencies in ADEQ's SIP-approved NSR program related to the requirements under both part C (prevention of significant deterioration or PSD) and part D (NA-NSR) of title I of the Act, which apply to major stationary sources and major modifications of such sources. 82 FR 25213. These revisions are necessary to correct several deficiencies we identified in a 2015 EPA final rule action to update ADEQ's SIP-approved NSR program, as well as certain deficiencies with ADEQ's NSR program that were the focus of a 2016 EPA final rule action related to PM2.5 precursors under the NA-NSR program requirements in CAA section 189(e). See 80 FR 67319 (Nov. 2, 2015) and 81 FR 40525 (June 22, 2016). We proposed to approve the April 2017 NSR submittal because we determined that the rules in the submittal complied with the relevant CAA requirements, with one exception, which ADEQ had indicated that it intended to address with a later SIP submittal, as discussed further below. Our June 1, 2017 proposed action contains more information on the rules in the April 2017 NSR submittal and our evaluation.

We also stated in our June 1, 2017 proposal that in our final action, we intended to update 40 CFR 52.144 to clarify that ADEQ has an approved PSD program, except for greenhouse gases (GHGs),¹ under sections 160 through 165 of the Act. We explained that we would also move the codification of the PSD Federal Implementation Plan (FIP) for GHGs for Arizona from 40 CFR 52.37 to 40 CFR 52.144, where the State of Arizona's PSD program approval is listed.

¹ ADEQ is currently subject to a Federal Implementation Plan (FIP) under the PSD program for GHGs because ADEQ has not adopted a PSD program for the regulation of GHGs. ADEQ's April 2017 NSR submittal was not intended to correct this program deficiency, as regulation of GHG emissions is currently prohibited under State law. See A.R.S. section 49-191.

The rules in the April 2017 NSR submittal will apply in all areas and to all stationary sources within Arizona for which ADEQ has CAA permitting jurisdiction. Currently, ADEQ has permitting jurisdiction for the following stationary source categories in all areas of Arizona: Smelting of metal ores, coal-fired electric generating stations, petroleum refineries, Portland cement plants, and portable sources. ADEQ also has permitting jurisdiction for major and minor sources in the following counties: Apache, Cochise, Coconino, Gila, Graham, Greenlee, La Paz, Mohave, Navajo, Santa Cruz, Yavapai, and Yuma. Finally, ADEQ has permitting jurisdiction over major sources in Pinal County ² and the Rosemont Copper Mine in Pima County.

² ADEQ has delegated implementation of the major source program to the Pinal County Air Quality Control District.

Table 2 lists the existing rules in the Arizona SIP that would be superseded or removed from the ADEQ portion of the Arizona SIP as part of our action. These rules would generally be replaced in the SIP by the submitted set of rules listed in Table 1.

Table 2—SIP Rules Being Removed From Arizona SIP in This Action
Rule | Title | EPA approval date | Federal Register citation
R9-3-301(I) and (K) | Installation Permits: General | 05/05/1982 | 47 FR 19326
R9-3-304(H) | Installation Permits in Attainment Areas | 05/03/1983 | 48 FR 19878
R18-2-101 | Definitions | 11/23/2014 11/2/2015 | 79 FR 56655 80 FR 67319
R18-2-201 | Particulate Matter: PM10 and PM2.5 | 09/23/2014 | 79 FR 56655
R18-2-203 | Ozone: One-hour Standard and Eight-hour Averaged Standard | 09/23/2014 | 79 FR 56655
R18-2-217 | Designation and Classification of Attainment Areas | 11/2/2015 | 80 FR 67319
R18-2-218 | Limitation of Pollutants in Classified Attainment Areas | 11/2/2015 | 80 FR 67319
R18-2-330 | Public Participation | 11/2/2015 | 80 FR 67319
R18-2-332 | Stack Height Limitation | 11/2/2015 | 80 FR 67319
R18-2-401 | Definitions | 11/2/2015 | 80 FR 67319
R18-2-402 | General | 11/2/2015 | 80 FR 67319
R18-2-403 | Permits for Sources Located in Nonattainment Areas | 11/2/2015 | 80 FR 67319
R18-2-404 | Offset Standards | 11/2/2015 | 80 FR 67319
R18-2-405 | Special Rule for Major Sources of VOC or Nitrogen Oxides in Ozone Nonattainment Areas Classified as Serious or Severe | 11/2/2015 | 80 FR 67319
R18-2-406 | Permit Requirements for Sources Located in Attainment and Unclassifiable Areas | 11/2/2015 | 80 FR 67319
R18-2-407 | Air Quality Impact Analysis and Monitoring Requirements | 11/2/2015 | 80 FR 67319
R18-2-412 | PALs | 11/2/2015 | 80 FR 67319

Simultaneously with our proposed approval action on June 1, 2017, we published a related interim final determination to defer sanctions. 82 FR 25203. This interim final determination was based on our proposed finding that with the April 2017 NSR submittal, the State had satisfied the requirements of part D of the CAA permitting program for areas under the jurisdiction of ADEQ with respect to issues that had been identified as the basis for an earlier final limited disapproval action on November 2, 2015, under title I, part D of the Act, relating to requirements for nonattainment areas. See 80 FR 67319 (Nov. 2, 2015).

Subsequently, on January 10, 2018, the EPA supplemented its June 1, 2017 proposal on ADEQ's April 2017 NSR submittal to address the outstanding requirement that had been identified in the June 1, 2017 proposal. See 83 FR 1212. Specifically, we had found in our June 1, 2017 proposal that while ADEQ's updated NA-NSR program, as reflected in the April 2017 NSR submittal, included ammonia as a precursor to PM2.5 in PM2.5 nonattainment areas, the rules in the April 2017 NSR submittal did not define the term “significant” for purposes of applying the requirements of 40 CFR 51.165(a)(13) to modifications at existing major stationary sources of ammonia located in a PM2.5 nonattainment area, as required by 40 CFR 51.165(a)(1)(x)(F). ADEQ must address this requirement to fully resolve the deficiencies in its NA-NSR program related to PM2.5 precursors under the NA-NSR program requirements in CAA section 189(e) that were identified in our 2016 EPA final rule action. See 81 FR 40525 (June 22, 2016). To address this remaining deficiency, in a letter dated December 6, 2017, ADEQ committed to adopt certain rule revisions and/or make other specific demonstrations by March 31, 2019. The EPA therefore proposed a conditional approval of ADEQ's NA-NSR program pursuant to CAA section 110(k)(4) solely as it pertains to section 189(e) of the Act and the associated regulatory requirements for ammonia as a PM2.5 precursor in our supplemental action on January 10, 2018.

In addition, simultaneously with our proposed conditional approval action on January 10, 2018, we published an interim final determination to defer sanctions based on that proposed conditional approval action and our June 1, 2017 proposed approval action. 83 FR 1995. The EPA made an interim final determination that the State had satisfied the requirements of part D of the CAA permitting program for areas under the jurisdiction of ADEQ with respect to fine particular matter (PM2.5) precursors under section 189(e). The effect of our interim final determination that the State has corrected the deficiency in the permitting program was that the imposition of sanctions that were triggered by our previous limited disapproval action on June 22, 2016 (at 81 FR 40525) was deferred.

Our June 1, 2017 proposal, our January 10, 2018 supplemental proposal, and the two accompanying interim final determinations described above contain more information on the basis for the determinations we made in these actions.

II. Public Comments and the EPA's Responses

The EPA's proposal and supplemental proposal each provided for a 30-day public comment period. We did not receive any comments during the public comment period on our June 1, 2017 proposed approval action, and we received one supportive comment from the Wyoming Department of Environmental Quality on our concurrent interim final determination to defer sanctions. We received 12 anonymous comments on our January 10, 2018 supplemental proposal and/or the related interim final determination to defer sanctions. Commenters on our January 10, 2018 proposal and interim final determination generally raised issues that are outside of the scope of this rulemaking and interim final determination, including but not limited to the National Environmental Policy Act (NEPA), climate science, the Intergovernmental Panel on Climate Change, the Navajo Generating Station (located on Tribal land), forest management, wildfire suppression, GHGs and other emissions from wildfires, and the Cross-State Air Pollution Rule. We also received one comment that was supportive of ADEQ correcting deficiencies in its program. The EPA is required to approve a state submittal if the submittal meets all applicable requirements. 42 U.S.C. 7410(k)(3). Commenters did not raise any specific issues germane to the approvability of the April 2017 NSR submittal, which relates to the permitting of stationary sources, including any issues germane to our proposal to conditionally approve ADEQ's NA-NSR program pursuant to CAA section 110(k)(4) solely as it pertains to section 189(e) of the Act and the associated regulatory requirements for ammonia as a PM2.5 precursor. Commenters also did not raise any specific issues germane to our interim final determinations to defer sanctions.

III. The EPA's Action

No comments were submitted that change our assessment of the rules submitted in the 2017 ADEQ NSR submittal and proposed for approval into the Arizona SIP as described in our proposed actions, nor were any comments submitted that change our assessment that certain ADEQ rules should be removed from the Arizona SIP as discussed in our proposals. Therefore, as authorized in section 110(k)(3) of the Act, the EPA is approving the rules in the 2017 ADEQ NSR submittal, as described in Table 1 above, into the ADEQ portion of the Arizona SIP, and the EPA is removing from the Arizona SIP the rules identified above in Table 2. Also, consistent with our proposal, we are moving the codification of the PSD FIP for GHGs for Arizona from 40 CFR 52.37 to 40 CFR 52.144, where the State of Arizona's PSD program approval is listed, and amending the regulatory text in 40 CFR 51.144 to clarify that ADEQ has an approved PSD program, except for GHGs, under sections 160 through 165 of the Act.

As a result of this final approval action, the offset sanction in CAA section 179, which would have applied 18 months after the effective date of our November 2, 2015 limited disapproval action (80 FR 67319), and the highway funding sanction in CAA section 179, which would have applied six months after this offset sanction was imposed, are permanently terminated.

We also received no comments that changed the determinations that were the basis for our proposed conditional approval action, thus we are finalizing a conditional approval of ADEQ's NA-NSR program solely with respect to ammonia as a precursor to PM2.5 under section 189(e) of the Act pursuant to CAA section 110(k)(4), as discussed in our supplemental proposal dated January 10, 2018. While we cannot grant full approval of the submittal at this time with respect to this issue, ADEQ has satisfactorily committed to address this deficiency by providing the EPA with a SIP submittal by March 31, 2019 that will include specific rule revisions and/or demonstrations that would adequately address this issue. If ADEQ submits the rule revisions and/or demonstrations that it has committed to submit by this deadline, and the EPA approves the submission, then this deficiency will be cured. However, if ADEQ fails to submit these revisions and/or demonstrations within the required timeframe, the conditional approval will become a disapproval for the specific issue of whether ADEQ's NA-NSR program meets the requirements of section 189(e) of the Act with respect to ammonia as a PM2.5 precursor, and the EPA will issue a finding of disapproval. The EPA is not required to propose the finding of disapproval.

Further, as a result of our final approval action and our final conditional approval action with respect to PM2.5 precursors under section 189(e) of the Act, all sanctions and any sanction clocks triggered by our 2016 PM2.5 precursor action (81 FR 40525) continue to be deferred unless at a later date our conditional approval converts to a disapproval, or the EPA proposes to take or takes final action to disapprove in whole or in part the SIP submittal that ADEQ is required to submit to fulfill its commitment in the conditionally approved plan. Sanctions and sanctions clocks triggered by our 2016 PM2.5 precursor action would be permanently terminated on the effective date of a final approval of the SIP submittal that ADEQ submits to fulfill the commitment in the conditionally approved plan.

IV. Incorporation by Reference

In this rule, the EPA is finalizing regulatory text that includes incorporation by reference. In accordance with requirements of 1 CFR 51.5, the EPA is finalizing the incorporation by reference of the ADEQ rules described in the amendments to 40 CFR part 52 set forth below. The EPA has made, and will continue to make, these documents available through www.regulations.gov and at the EPA Region IX Office (please contact the person identified in the FOR FURTHER INFORMATION CONTACT section of this preamble for more information). Therefore, these materials have been approved by the EPA for inclusion in the Arizona SIP, have been incorporated by reference by the EPA into that plan, are fully federally enforceable under sections 110 and 113 of the CAA as of the effective date of the final rulemaking of the EPA's approval, and will be incorporated by reference in the next update to the SIP compilation.³

³ 62 FR 27968 (May 22, 1997).

V. Statutory and Executive Order Reviews

Under the CAA, the EPA Administrator is required to approve a SIP submission that complies with the provisions of the Act and applicable Federal regulations. 42 U.S.C. 7410(k); 40 CFR 52.02(a). Thus, in reviewing SIP submissions, the EPA's role is to approve state choices, provided that they meet the criteria of the Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 3, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 3, 2018. Filing a petition for reconsideration by the Administrator of this final rule does not affect the finality of this rule for the purposes of judicial review nor does it extend the time within which a petition for judicial review may be filed, and shall not postpone the effectiveness of such rule or action. This action may not be challenged later in proceedings to enforce its requirements. (See CAA section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 18, 2018.
Alexis Strauss,
Acting Regional Administrator, Region IX.

For the reasons stated in the preamble, part 52, chapter I, title 40 of the Code of Federal Regulations is amended as follows:

PART 52—APPROVAL AND PROMULGATION OF IMPLEMENTATION PLANS

1. The authority citation for part 52 continues to read as follows:

Authority: 42 U.S.C. 7401 et seq.

Subpart A—General Provisions

§ 52.37 [Removed and Reserved]

2. Section 52.37 is removed and reserved.

Subpart D—Arizona

3. Section 52.119 is added to read as follows:

§ 52.119 Identification of plan—conditional approvals.

This section identifies plan revisions that are conditionally approved based upon commitments received from the State.

(a) A plan revision for the Arizona Department of Environmental Quality (ADEQ) submitted April 28, 2017, by the Governor's designee, updating ADEQ's Clean Air Act (CAA) new source review (NSR) program only with respect to the CAA requirements related to ammonia as a precursor to PM2.5 under the nonattainment NSR program requirements in CAA section 189(e). This plan revision is conditionally approved as follows:

(1) The conditional approval is based upon the December 6, 2017 commitment from the State to submit a SIP revision to the EPA by March 31, 2019 consisting of rule revisions and/or demonstrations that will correct the deficiencies identified with this submittal, as specified in ADEQ's December 6, 2017 commitment letter. If the State fails to meet its commitment by March 31, 2019, the conditional approval will be treated as a disapproval only with respect to the CAA requirements related to ammonia as a precursor to PM2.5 under the nonattainment NSR program requirements in CAA section 189(e).

(2) [Reserved]

(b) [Reserved]

4. In § 52.120, paragraph (c), Table 2 is amended:

a. Under Title 9, Chapter 3, by removing the center heading “Article 3” and entries “R9-3-301, paragraphs I and K” and “R9-3-304, paragraph H”;

b. Under Title 18, Chapter 2, Article 1, by:

i. Removing entries “R18-2-101, definitions (2), (32), (87), (109), and (122)” and “R18-2-101 excluding definitions (2), (20), (32), (87), (109), and (122)”; and

ii. Adding, in numerical order, the entry “R18-2-101 (except 20)”;

c. Under Title 18, Chapter 2, Article 2, by revising the entries for “R18-2-201,” “R18-2-203,” “R18-2-217,” and “R18-2-218”;

d. Under Title 18, Chapter 2, Article 3, by revising the entries for “R18-2-330” and “R18-2-332”; and

e. Under Title 18, Chapter 2, Article 4, by:

i. Revising the entries for “R18-2-401” through “R18-2-406”;

ii. Removing the entry “R18-2-407, excluding subsection (H)(1)(c)”;

iii. Adding, in numerical order, the entries “R18-2-407,” “R-18-2-408,” “R18-2-410,” and “R18-2-411;” and

iv. Revising the entry for “R18-2-412”.

The addition and revisions read as follows:

§ 52.120 Identification of plan.

* * * * *

(c) * * *

Table 2—EPA-Approved Arizona Regulations
State citation | Title/subject | State effective date | EPA approval date | Additional explanation
Arizona Administrative Code
* * * * * * *
Title 18 (Environmental Quality)
Chapter 2 (Department of Environmental Quality Air Pollution Control)
Article 1 (General)
R18-2-101 (except 20) | Definitions | March 21, 2017 | [INSERT Federal Register CITATION], May 4, 2018 | Submitted on April 28, 2017.
* * * * * * *
Article 2 (Ambient Air Quality Standards; Area Designations; Classifications)
R18-2-201 | Particulate Matter: PM10 and PM2.5 | March 21, 2017 | [INSERT Federal Register CITATION], May 4, 2018 | Submitted on April 28, 2017.
* * * * * * *
R18-2-203 | Ozone | March 21, 2017 | [INSERT Federal Register CITATION], May 4, 2018 | Submitted on April 28, 2017.
* * * * * * *
R18-2-217 | Designation and Classification of Attainment Areas | March 21, 2017 | [INSERT Federal Register CITATION], May 4, 2018 | Submitted on April 28, 2017.
R18-2-218 | Limitation of Pollutants in Classified Attainment Areas | March 21, 2017 | [INSERT Federal Register CITATION], May 4, 2018 | Submitted on April 28, 2017.
* * * * * * *
Article 3 (Permits and Permit Revisions)
* * * * * * *
R18-2-330 | Public Participation | March 21, 2017 | [INSERT Federal Register CITATION], May 4, 2018 | Submitted on April 28, 2017.
R18-2-332 | Stack Height Limitation | March 21, 2017 | [INSERT Federal Register CITATION], May 4, 2018 | Submitted on April 28, 2017.
* * * * * * *
Article 4 (Permit Requirements for New Major Sources and Major Modifications to Existing Major Sources)
R18-2-401 | Definitions | March 21, 2017 | [INSERT Federal Register CITATION], May 4, 2018 | Submitted on April 28, 2017.
R18-2-402 | General | March 21, 2017 | [INSERT Federal Register CITATION], May 4, 2018 | Submitted on April 28, 2017.
R18-2-403 | Permits for Sources Located in Nonattainment Areas | R18-2-403 | [INSERT Federal Register CITATION], May 4, 2018 | Submitted on April 28, 2017.
R18-2-404 | Offset Standards | March 21, 2017 | [INSERT Federal Register CITATION], May 4, 2018 | Submitted on April 28, 2017.
R18-2-405 | Special Rule for Major Sources of VOC or Nitrogen Oxides in Ozone Nonattainment Areas Classified as Serious or Severe | March 21, 2017 | [INSERT Federal Register CITATION], May 4, 2018 | Submitted on April 28, 2017.
R18-2-406 | Permit Requirements for Sources Located in Attainment and Unclassifiable Areas | March 21, 2017 | [INSERT Federal Register CITATION], May 4, 2018 | Submitted on April 28, 2017.
R18-2-407 | Air Quality Impact Analysis and Monitoring Requirements | March 21, 2017 | [INSERT Federal Register CITATION], May 4, 2018 | Submitted on April 28, 2017.
R18-2-408 | Innovative Control Technology | March 21, 2017 | [INSERT Federal Register CITATION], May 4, 2018 | Submitted on April 28, 2017.
* * * * * * *
R18-2-410 | Visibility and Air Quality Related Value Protection | March 21, 2017 | [INSERT Federal Register CITATION], May 4, 2018 | Submitted on April 28, 2017.
R18-2-411 | Permit Requirements for Sources that Locate in Attainment or Unclassifiable Areas and Cause or Contribute to a Violation of Any National Ambient Air Quality Standard | March 21, 2017 | [INSERT Federal Register CITATION], May 4, 2018 | Submitted on April 28, 2017.
R18-2-412 | PALs | March 21, 2017 | [INSERT Federal Register CITATION], May 4, 2018 | Submitted on April 28, 2017.
* * * * * * *

* * * * *

5. Section 52.144 is amended by adding paragraph (c) to read as follows:

§ 52.144 Significant deterioration of air quality.

* * * * *

(c) The requirements of sections 160 through 165 of the Clean Air Act are met as they apply to stationary sources under the jurisdiction of the Arizona Department of Environmental Quality (ADEQ), except with respect to emissions of greenhouse gases (GHGs) (as defined in § 52.21(b)(49)(i)). Therefore, the provisions of § 52.21, except paragraph (a)(1) of this section, for GHGs are hereby made a part of the plan for stationary sources under the jurisdiction of ADEQ as it applies to the stationary sources described in § 52.21(b)(49)(iv).

[FR Doc. 2018-09205 Filed 5-3-18; 8:45 am]

BILLING CODE 6560-50-P